DEPARTMENT OF HEALTH AND HUMAN SERVICES

Centers for Medicare and Medicaid Services

[Document Identifier: CMS-10177]

Emergency Clearance: Public Information Collection Requirements Submitted to the Office of Management and Budget (OMB)

AGENCY: Center for Medicare and Medicaid Services, Department of Health and Human Services.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR Part 1320(a)(2)(ii). This is necessary to ensure compliance with an initiative of the Administration. We cannot reasonably comply with the normal clearance procedures because of an unanticipated event, as stated in 5 CFR 1320.13(a)(2)(ii).

1. Type of Information Collection Request: New collection; Title of Information Collection: Survey of Contract Labor in Selected Health Industries; Form Number: CMS-10177 (OMB#: 0938-New); Use: The Office of the Actuary (OACT), Centers for Medicare and Medicaid Services (CMS) is requesting emergency review and approval of an information collection request (ICR) for a one-time, seven-question survey of professional contract labor costs in selected health industries. The survey will empirically quantify the locally-purchased and nationally-purchased proportions of professional contract labor costs incurred by hospitals, skilled nursing facilities (SNF), and kidney dialysis centers (ESRD). The results of this study will determine the proportion of professional contract labor costs that should be included in the labor-related share (LRS). The LRS of Medicare perspective payment system (PPS) payments is the proportion of said payment that is subject to the area wage index adjustment. This adjustment accounts for geographic variation, thus the survey will directly impact the distribution of Medicare hospital and SNF payments to PPS providers. ESRD providers are not paid prospectively at this time, although that appears likely at some point in the future. Frequency: One-time; Affected Public: Private Sector and State, Tribal and Local governments; Number of Respondents: 4,000; Total Annual Responses: 4,000; Total Annual Hours: 4,000.

CMS is requesting OMB review and approval of this collection by January 14, 2008, with a 180-day approval period. Written comments and recommendations will be considered from the public if received by the individuals designated below by December 31, 2007.

To obtain copies of the supporting statement and any related forms for the proposed paperwork collections referenced above, access CMS' Web Site address at http://www.cms.hhs.gov/regulations/pra or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by December 31, 2007: CMS, Office of Strategic Operations and Regulatory Affairs, Division of Regulations Development—B, Attn: William N. Parham, III, Room C4-26-05, 7500 Security Boulevard, Baltimore, MD 21244-1850. and, OMB Human Resources and Housing Branch, Attention: Carolyn Lovett, New Executive Office Building, Room 10235, Washington, DC 20503, Fax Number: (202) 395-6974.

Dated: December 7, 2007.
Michelle Shortt,
Director, Regulations Development Group, Office of Strategic Operations and Regulatory Affairs.

[FR Doc. E7-24261 Filed 12-13-07; 8:45 am]

BILLING CODE 4120-01-P